SURFACE TRANSPORTATION BOARD

[Docket No. EP 290 (Sub-No. 5) (2022-1)]

Quarterly Rail Cost Adjustment Factor

AGENCY: Surface Transportation Board.

ACTION: Approval of rail cost adjustment factor.

SUMMARY: The Board has approved the first quarter 2022 Rail Cost Adjustment Factor (RCAF) and cost index filed by the Association of American Railroads. The first quarter 2022 RCAF (Unadjusted) is 1.154. The first quarter 2022 RCAF (Adjusted) is 0.478. The first quarter 2021 RCAF-5 is 0.451.

DATES: Applicability Date: January 1, 2022.

FOR FURTHER INFORMATION CONTACT: Pedro Ramirez at (202) 245-0333. Assistance for the hearing impaired is available through the Federal Relay Service at (800) 877-8339.

SUPPLEMENTARY INFORMATION: Additional information is contained in the Board's decision, which is available at www.stb.gov.

Decided: December 17, 2021.
By the Board, Board Members Begeman, Fuchs, Oberman, Primus, and Schultz.
Jeffrey Herzig,
Clearance Clerk.

[FR Doc. 2021-27753 Filed 12-21-21; 8:45 am]

BILLING CODE 4915-01-P